NUCLEAR REGULATORY COMMISSION

10 CFR Part 73

RIN 3150-AI64

[NRC-2010-0340]

Draft NUREG-0561, Revision 2; Physical Protection of Shipments of Irradiated Reactor Fuel; Extension of Comment Period

AGENCY: Nuclear Regulatory Commission.

ACTION: Draft guidance document: Extension of comment period.

SUMMARY: On November 3, 2010 (75 FR 67636), the U.S. Nuclear Regulatory Commission (NRC or the Commission) published for public comment a revision to NUREG-0561, the draft implementation guidance document for a proposed rule to amend its security regulations in Title 10 of the Code of Federal Regulations (10 CFR) Part 73 pertaining to the transport of irradiated reactor fuel (for purposes of this rulemaking, the terms “irradiated reactor fuel” and “spent nuclear fuel” are used interchangeably). The proposed rule was published on October 13, 2010 (75 FR 62695). The public comment period for this proposed rule was scheduled to expire on February 11, 2011; however, on January 10, 2011 (76 FR 1376), the public comment period for the proposed rule was extended to April 11, 2011. In order to allow the public sufficient time to review and comment on the draft revision to NUREG-0561, the NRC has decided to extend the comment period for the draft guidance document until May 11, 2011.

DATES: The comment period has been extended and expires on May 11, 2011. Comments received after this date will be considered if it is practical to do so. The NRC is only able to assure consideration of comments received on or before this date.

ADDRESSES: Please include Docket ID: NRC-2010-0340 in the subject line of your comments. For instructions on submitting comments and accessing documents related to this action, see Section I, “Submitting Comments and Accessing Information” in the SUPPLEMENTARY INFORMATION section of this document. You may submit comments by any one of the following methods.

Federal Rulemaking Web site: Go to http://www.regulations.gov and search for documents filed under Docket ID: NRC-2010-0340. Address questions about NRC dockets to Carol Gallagher, telephone (301) 492-3668; e-mail: Carol.Galagher@nrc.gov.

Mail comments to: Cindy Bladey, Chief, Rules, Announcements, and Directives Branch (RADB), Office of Administration, Mail Stop: TWB-05-B01M, U.S. Nuclear Regulatory Commission, Washington, DC 20555-0001.

Fax comments to: RADB at (301) 492-3446.

FOR FURTHER INFORMATION CONTACT: R. Clyde Ragland, Office of Nuclear Security, and Incident Response, U.S. Nuclear Regulatory Commission, Washington, DC 20555-0001, telephone (301) 415-7008, e-mail: Clyde.Ragland@nrc.gov.

SUPPLEMENTARY INFORMATION:

Submitting Comments and Accessing Information

Comments submitted in writing or in electronic form will be posted on the NRC Web site and on the Federal rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document using the following methods:

NRC's Public Document Room (PDR): The public may examine and have copied for a fee, publicly available documents at the NRC's PDR, Room O-1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, or 301-415-4737, or by e-mail to PDR.Resource@nrc.gov. The draft implementation guidance is available electronically under ADAMS Accession Number ML103060094.

Federal Rulemaking Web site: Public comments and supporting materials related to the implementation guidance, including the draft implementation guidance, can be found at http://www.regulations.gov by searching on Docket ID: NRC-2010-0340. Documents related to the proposed rule can be found by searching on Docket ID: NRC-2009-0163.

Discussion:

On October 13, 2010 (75 FR 62695), the NRC published a proposed rule that would amend its regulations in 10 CFR Part 73 to enhance the security requirements that apply to the transportation of spent nuclear fuel. The public comment period for the proposed rule has been extended through April 11, 2011. In conjunction with the proposed rule, the NRC has revised NUREG-0561, “Physical Protection of Shipments of Irradiated Reactor Fuel.” This document provides guidance on implementing the provisions of proposed 10 CFR Part 73.37, “Requirements for Physical Protection of Byproduct Material” and proposed 10 CFR 73.38, “Personnel Access Authorization Requirements for Irradiated Reactor Fuel in Transit.”

On November 3, 2010 (75 FR 67636), the NRC published for public comment the proposed revision to NUREG-0561. The NRC has determined that additional time is needed for public review of the potential impacts of the proposed requirements. In order to allow the public sufficient time to review and comment on the proposed rule, the NRC has decided to extend the comment period until May 11, 2011.

Dated at Rockville, Maryland, this 20th day of January 2011.
For the Nuclear Regulatory Commission.
Robert K. Caldwell,
Chief, Fuel Cycle and Transportation Security Branch, Division of Security Policy, Office of Nuclear Security and Incident Response.

[FR Doc. 2011-1907 Filed 1-27-11; 8:45 am]

BILLING CODE 7590-01-P